DEPARTMENT OF HEALTH AND HUMAN SERVICES

Availability of Funds for Adolescent Family Life Demonstration Projects

AGENCY: Department of Health and Human Services, Office of the Secretary.

ACTION: Notice.

SUMMARY: The Office of Adolescent Pregnancy Programs (OAPP) of the Office of Population Affairs requests applications for prevention grants under the Adolescent Family Life (AFL) Demonstration Projects, as authorized by Title XX of the Public Health Service Act. These Title XX grants should clearly and consistently focus on promoting abstinence as the most effective way of preventing unintended pregnancy and sexually transmitted infections (STIs), including HIV/AIDS, and the avoidance of other risky behavior. All pre-adolescents and adolescents under age 19 are eligible for services. Funds will be competitively awarded to approximately 10 projects, which may be located in any State, the District of Columbia, and United States territories, commonwealths and possessions.

CFDA: A description of the Title XX program can be found at the OMB Catalog of Federal Domestic Assistance 93.995.

DATES: To receive consideration, applications must be received by the Office of Public Health and Science (OPHS), Office of Grants Management no later than June 4, 2004. Mailed applications will be considered as meeting the deadline if they are received by the OPHS Office of Grants Management not later than 5 p.m. Eastern Standard time on the application due date. Applications will not be accepted by fax, nor will the submission deadline be extended. The application due date requirement specified in this announcement supercedes the instructions in the OPHS-1. Applications which do not meet the deadline will be returned to the applicant unread. See heading Application and Submission Information for additional information.

ADDRESSES: Applications must be submitted to Ms. Karen Campbell, Director, OPHS Grants Management Office, Office of Public Heath and Science, Department of Health and Human Services, 1101 Wootton Parkway, Suite 550, Rockville, MD 20852.

FOR FURTHER INFORMATION CONTACT: Regarding program requirements, OAPP staff are available at (301) 594-4004 to answer questions and provide technical assistance on the preparation of grant applications. Questions may also be directed to OAPP staff via e-mail at http://opa@osophs.dhhs.gov. If contacting OAPP by e-mail, please include the phrase “AFL Prevention Question” in the subject heading. For assistance on administrative or budgetary requirements, contact the OPHS Grants Management Office, (301) 594-0758.

SUPPLEMENTARY INFORMATION: Title XX of the Public Health Service Act, 42 U.S.C. 300z. et seq., authorizes the Secretary of Health and Human Services to award grants for demonstration projects to provide services to pregnant and nonpregnant adolescents, adolescent parents, and their families. These grants are for community-based and community-supported demonstration projects to find effective means of preventing pregnancy by encouraging pre-adolescents and adolescents to abstain from sexual activity until marriage through provision of age-appropriate education on sexuality and decision-making skills.

The specific services which may be funded under Title XX are listed below under the heading entitled Prevention Services.

Applicants should consider issues such as compliance with State reporting laws regarding child sexual abuse, sexual assault (including statutory rape), incest, or family violence in the development of their proposals. For more information, applicants may access the National Clearinghouse on Child Abuse and Neglect website at http://nccanch.acf.hhs.gov/.

I. Funding Opportunity Description

Prevention Services

Under this announcement, funds are available for abstinence education PREVENTION projects only. Community-based, community-supported, faith-based, and school-based applicants are encouraged to apply. The project site must be identified in the application rather than selected after the grant is awarded.

Under the Title XX statute, the primary purpose of prevention programs is to find effective means of reaching pre-adolescents and adolescents, both male and female, before they become sexually active in order to encourage them to abstain from sexual activity and other risky behaviors. There is general agreement that early initiation of sexual activity brings not only the risk of unintended pregnancy, but also substantial health risks to adolescent health and well-being, primarily infection with STIs, including HIV/AIDS, and is associated with increased risk of school problems, depression, and substance use. Accordingly, applicants must clearly and consistently focus on abstinence as the most effective way of preventing unintended pregnancy and STIs, including HIV/AIDS, and must provide services that help pre-adolescents and adolescents acquire knowledge and skills that will instill healthy attitudes and encourage and support abstinence from sexual activity and other risky behaviors. Any information provided for pre-adolescents and adolescents who may be or become sexually active, which relates to reducing the risk of unintended pregnancy and disease, must be medically accurate and must be presented within the context that abstinence is the most effective choice and is what the project recommends.

Under the statutory requirements of Title XX, applicants for prevention programs are not required to provide any specific array of services. However, OAPP encourages the submission of applications which focus on educational services relating to family life and which teach the social, psychological, and health gains to be realized by abstaining from sexual activity.

The legislation also permits a proposal to include any one or more of the following services as appropriate:

(1) Educational services relating to family life and problems associated with adolescent premarital sexual relations including:

(a) Information about adoption,

(b) Education on the responsibilities of sexuality and parenting,

(c) The development of material to support the role of parents as the providers of sex education, and

(d) Assistance to parents, schools, youth agencies and health providers to educate adolescents and pre-adolescents concerning self-discipline and responsibility in human sexuality;

(2) Appropriate educational and vocational services;

(3) Counseling for the immediate and extended family members of the eligible person;

(4) Transportation;

(5) Outreach services to families of adolescents to discourage sexual relations among unemancipated minors; and

(6) Nutrition information and counseling.

Abstinence Education

In addition to the Title XX statutory requirements, programs must be consistent with the definition of “abstinence education,” as set out in section 510(b)(2) of title V of the Social Security Act, as amended. Accordingly, under this announcement the term “abstinence education” means an educational or motivational program which:

(1) Has as its exclusive purpose, teaching the social, psychological, and health gains to be realized by abstaining from sexual activity;

(2) Teaches abstinence from sexual activity outside marriage as the expected standard for all school age children;

(3) Teaches that abstinence from sexual activity is the only certain way to avoid out-of-wedlock pregnancy, sexually transmitted diseases, and other associated health problems;

(4) Teaches that a mutually faithful monogamous relationship in context of marriage is the expected standard of human sexual activity;

(5) Teaches that sexual activity outside of the context of marriage is likely to have harmful psychological and physical effects;

(6) Teaches that bearing children out-of-wedlock is likely to have harmful consequences for the child, the child's parents, and society;

(7) Teaches young people how to reject sexual advances and how alcohol and drug use increases vulnerability to sexual advances; and

(8) Teaches the importance of attaining self-sufficiency before engaging in sexual activity.

Youth Development or Developmental Assets Approach

Adolescents need to acquire capacity building and coping skills that assist them in making healthier decisions with respect to: relationships and dating, education, career goal setting, violence, gangs, alcohol and other drugs, and poverty. Youth development or developmental assets strategies encompass strengthening families, fostering relationships with adult mentors, involving youth in community service, promoting connectedness with school, providing opportunities to engage in sports and cultural activities, and building confidence and self-esteem; all are designed to strengthen supports, either internal or external, for youth as they transition to adulthood and prepare for career, marriage, and families. Where possible, pre-adolescents and adolescents should be an integral part of the design, implementation, and evaluation of this approach.

Parental Involvement

Parents are their children's first and most important teachers. Research has shown the importance of parental involvement and open communication between parent and child in the prevention of adolescent sexual activity, as well as other risk behaviors such as tobacco, alcohol, and drug use. Successful prevention programs should include a component that provides:

(1) services that strengthen parental capacity to help their child deal with issues such as delaying sexual activity, poverty, academic difficulties, alcohol and drug use, gang involvement, peer pressure and violence in the community and in the home;

(2) a variety of activities that help build and maintain strong families while fostering healthy and positive communication about health, risk avoidance, decision making, setting and meeting goals, and shared values; and

(3) accessible programming that engages parents by understanding and meeting their needs.

Helping our young people successfully negotiate adolescence and avoid premarital sexual activity, as well as other health risk behaviors, requires not only educating and motivating them—it also requires ensuring that they have adequate support systems. To that end, the OAPP encourages applicants to incorporate youth development concepts in their prevention program, as well as a strong and viable parental involvement component. Note however, that all services provided by Title XX grantees, including all activities that are part of the youth development and/or parental involvement component, must be within the scope of the Title XX prevention services listed above and must be consistent with the definition of “abstinence education,” as set out in section 510(b)(2) of title V of the Social Security Act.

Goals and Objectives

All applications should include a program goal statement and related outcome objectives. A goal is a general statement of what the project hopes to accomplish. It should reflect the long-term desired impact of the project on the target group(s) as well as reflect the program goals contained in this program announcement. An outcome objective is a statement which defines a measurable result the project expects to accomplish. Outcome objectives should be described in terms that measure the results the project will bring about (e.g., decrease in premarital sexual activity among the treatment group, increase in intent to remain abstinent among the treatment group). Good applications should contain three to five outcome objectives that are specific, measurable, achievable, realistic, and time-framed (S.M.A.R.T.).

Specific: An objective should specify one major result directly related to the program goal, state who is going to be doing what, to whom, by how much, and in what time-frame. It should specify what will be accomplished and how the accomplishment will be measured.

Measurable: An objective should be able to describe in realistic terms the expected results and specify how such results will be measured.

Achievable: The accomplishment specified in the objective should be achievable within the proposed time line and as a direct result of program activities.

Realistic: The objective should be reasonable in nature. The specified outcomes, expected results, should be described in realistic terms.

Time-framed: An outcome objective should specify a target date or time for its accomplishments. It should state who is going to be doing what, by when, etc. The Public Management Institute, How to Get Grants (1981).

Evaluation

Section 2006(b)(1) of Title XX requires each grantee to expend at least one percent, but not more than five percent, of the Federal funds received under Title XX on evaluation of the project. In cases in which a more rigorous or comprehensive evaluation effort is proposed (see sec. 2006(b)(1)) waivers of the five percent limit on evaluation may be granted by OAPP. Under this announcement, OAPP is requesting applications for evaluation-intensive projects. For evaluation-intensive projects, OAPP will waive the five percent limit up to a maximum of 25 percent. Applicants are expected to include a clear and fully developed evaluation plan that meets the following six criteria.

1. Evaluations will be directly tied to program objectives. Research hypotheses will be clearly stated and reflect the outcomes the program intends to achieve.

2. Evaluations will include a process or implementation evaluation. Evaluations in their first year will focus on determining that the intervention is in place, that it is adequately and appropriately staffed, and that it is reaching its intended population.

3. Evaluations will have a viable comparison strategy. If a true experimental design with random assignment is not possible, a quasi-experimental design with matched comparison group would be acceptable.

4. Evaluations will have sufficient sample size to ensure that any observed differences between groups are significant.

5. Evaluations will measure dosage. Client participation and use of various service components must be carefully tracked so that any differences can be corrected for, or at least taken into account in discussion of evaluation results.

6. Evaluations will include a follow-up assessment of program participants at least six months after the intervention being tested ends. This follow-up assessment should be in the same format as the pre- and post-testing instrumentation.

In addition, applications should clearly demonstrate the capacity to participate in a cross-site evaluation, as well as the understanding that use of a core evaluation instrument, currently being developed by OAPP, will be incorporated into the outcome evaluation design.

Section 2006(b)(2) of Title XX requires that evaluations be conducted by an organization or entity independent of the grantee providing services. To assist in conducting the evaluation, each grantee shall develop a working relationship with a college or university located in the grantee's state which will provide or assist in providing monitoring and evaluation of the proposed program. The OAPP strongly recommends extensive collaboration between the applicant organization and the proposed evaluator. It is important to establish this relationship when preparing the application to ensure that the evaluation plan is consistent with the project's goals and objectives and also meets the other evaluation criteria specified above.

Curriculum Review

The grantee shall submit all curricula and educational materials proposed for use in the AFL project, whether currently available or to be developed by the grantee, to OAPP for review and approval prior to use in the project. The review shall ensure that these materials are medically accurate, consistent with Title XX policies on religion, in compliance with the statutory prohibitions against advocating, promoting, encouraging, or providing abortions, and consistent with the definition of “abstinence education,” as set out in section 510(b)(2) of title V of the Social Security Act, as amended.

II. Award Information

Under this program announcement, OAPP intends to make available approximately $3.5 million to support an estimated 10 new PREVENTION demonstration projects. The awards will not exceed $300,000. Please note, in fiscal year (FY) 2002, OAPP issued a similar Request for Applications (RFA) announcing approximately $7.8 million for new abstinence education prevention demonstration projects. In response to that RFA, OAPP received 261 grant applications and was able to fund only 37 new projects.

Grants may be approved for project periods of up to five years, and are funded in annual increments (budget periods). Funding for all approved budget periods beyond the first year of the grant is contingent upon the availability of funds, satisfactory progress of the project, and adequate stewardship of Federal funds.

Applications are encouraged from organizations which are currently operating programs that have the capability of expanding and enhancing these services to serve significant numbers of pre-adolescent and adolescents according to the guidelines specified in this announcement. Applications are also encouraged from organizations that have the capability to conduct a rigorous evaluation of the funded project.

III. Eligibility Information

Eligible Applicants

Any public or private nonprofit organization or agency is eligible to apply for a grant. However, only those organizations or agencies which demonstrate the capability of providing the proposed services and meet the statutory requirements are considered for grant awards. Faith-based and community-based organizations are encouraged to apply for AFL grants. Please note, however, that no funds provided through the AFL program may be expended for inherently religious activities, such as worship, religious instruction, and proselytization. If an organization engages in such activities, they must be offered separately in time or location from the program funded under the AFL program and participation must be voluntary for program beneficiaries. An AFL program, in providing services and outreach related to program services, cannot discriminate against current or prospective program beneficiaries on the basis of religion, a religious belief, a refusal to hold a religious belief, or a refusal to actively participate in a religious practice.

Cost Sharing

Applicants funded under this announcement will be required to match federal funding provided by the OAPP. An AFL grant award may not exceed 70 percent of the total costs of the project for the first and second years, 60 percent of the total costs for the third year, 50 percent for the fourth year and 40 percent for the fifth year. The AFL non-Federal share of the project costs may be provided in cash expenditures or fairly evaluated in-kind contributions, including facilities, equipment and services. Other Federal funds may not be used as an in-kind contribution.

IV. Application and Submission Information

Address to Request Application Package: Application kits consisting of the OPHS-1 and appropriate forms, a copy of the Title XX legislation, a computer based technical assistance program to instruct applicants in the Title XX grant writing process, and guidance on the application process may be downloaded from http://opa.osophs.dhhs.gov. If you do not have access to the INTERNET, you may obtain a kit from the OPHS Office of Grants Management; 1101 Wootton Parkway, Suite 550; Rockville, MD 20852; by phone (301) 594-0758 or by fax (301) 594-9399. The computer based technical assistance program on CD-ROM will be included in the kit. All completed applications must be submitted to the OPHS, Office of Grants Management at the above mailing address. In preparing the application, it is important to follow ALL instructions provided in the application kit.

Content and Form of Application Submission: Applications must be submitted on the forms supplied (OPHS-1, Revised 6/2001) and in the manner prescribed in the application kits provided by the OAPP. Applicants are required to submit an application signed by an individual authorized to act for the applicant agency or organization and to assume for the organization the obligations imposed by the terms and conditions of the grant award. The program narrative should not be longer than 50 double-spaced pages, not including appendices and required forms, using an easily readable, 12 point font. All pages, figures and tables should be numbered.

Applicants must be familiar with Title XX in its entirety to ensure that they have complied with all applicable requirements. A copy of the legislation is included in the application kit.

A Dun and Bradstreet Universal Numbering System (DUNS) number is required for all applications for Federal assistance. Organizations should verify that they have a DUNS number or take the steps necessary to obtain one. Instructions for obtaining a DUNS number are included in the application package, and may be downloaded from the OPA Web site.

Submission Dates and Times

The OAPP provides multiple mechanisms for submission of applications.

Electronic Submission: The OAPP encourages electronic submission of grant applications using the OPHS e-Grants system. Instructions for use of this system are available on the OPA Web site at http://opa.osophs.dhhs.gov, or may be requested from the OPHS Grants Management Office at (301) 594-0758.

The body of the application and required forms can be submitted using the e-Grants system. In addition to electronically submitted materials, applicants are required to provide a hard copy of the application face page (Standard Form 424 [Revised 07/03]) with the original signature of an individual authorized to act for the applicant agency or organization and to assume for the organization the obligations imposed by the terms and conditions of the grant award. The application is not considered complete until both the electronic application and the hard copy of the face page with the original signature are received. Both must be received on or before the due date listed in the DATES section of this announcement.

Hard Copy Applications: Applications submitted in hard copy must include an original and two copies of the application. The original application must be signed by an individual authorized to act for the applicant agency or organization and to assume for the organization the obligations imposed by the terms and conditions of the grant award.

Intergovernmental Review

Applications for AFL grants must also meet both of the following requirements (each year):

(1) Requirements for Review of an Application by the Governor. Section 2006(e) of Title XX requires that each applicant shall provide the Governor of the State in which the applicant is located a copy of each application submitted to OAPP for a grant for a demonstration project for services under this Title. The Governor has 60 days from the receipt date in which to provide comments to the applicant. An applicant may comply with this requirement by submitting a copy of the application to the Governor of the State in which the applicant is located at the same time the application is submitted to OAPP. To inform the Governor's office of the reason for the submission, a copy of this notice should be attached to the application.

(2) Requirements for Review of an Application Pursuant to Executive Order 12372 (SPOC Requirements). Applications under this announcement are subject to the review requirements of E.O. 12372, “Intergovernmental Review of Federal Programs,” as implemented by 45 CFR part 100, “Intergovernmental Review of Department of Health and Human Services Programs and Activities.” E.O. 12372 sets up a system for state and local government review of proposed Federal assistance applications. As soon as possible, the applicant (other than Federally-recognized Indian tribal governments) should contact the State Single Point of Contact (SPOC) for each state in the area to be served. The application kit contains the currently available listing of the SPOCs which have elected to be informed of the submission of applications. For those states not represented on the listing, further inquiries should be made by the applicant regarding submission to the relevant SPOC. The SPOC's comment(s) should be forwarded to the OPHS Office of Grants Management, 1101 Wootton Parkway, Suite 550, Rockville, MD 20852. The SPOC has 60 days from the closing date of this announcement to submit any comments.

Funding Restrictions

Applicants for discretionary grants are expected to anticipate and justify their funding needs and the activities to be carried out with those funds in preparing the budget and accompanying narrative portions of their applications. The basis for determining the allowability and allocability of costs charged to Public Health Service (PHS) grants is set forth in 45 CFR parts 74 and 92. If applicants are uncertain whether a particular cost is allowable, they should contact the OPHS, Office of Grants Management at (301) 594-0758 for further information.

V. Application Review Information

Criteria

Eligible competing grant applications will be reviewed by a multi-disciplinary panel of independent reviewers and will be assessed according to the following criteria:

(1) The applicant's presentation of an organizational model for service delivery with appropriate design, consistent with the requirements of Title XX. (25 points)

(2) The applicant's presentation of a detailed evaluation plan that indicates an understanding of program evaluation methods, reflects a practical and technically sound approach to assessing both the project's implementation and its outcomes, and demonstrates the capacity to participate in a cross-site evaluation. The applicant's provision of a clear statement of mission, goals, measurable (outcome) objectives, reasonable methods for achieving the objectives, a reasonable workplan and timetable, and clear statements of expected results. (25 points)

(3) The capacity of the applicant to implement the program, including personnel and other resources, and the applicant's experience and expertise in providing programs for adolescents. (10 points)

(4) The applicant's presentation of a detailed and viable plan to involve parents, and/or other family members, that includes a description of the proposed activities, as well as strategies for recruitment and retention. (10 points)

(5) The population the project proposes to serve, including ethnic composition, number of adolescent and pre-adolescent clients, family members and community members. [Healthy People 2010 is a set of health objectives for the Nation to achieve over the first decade of the new century. The two goals of Healthy People 2010 are to increase quality of years of healthy life and to eliminate health disparities. In evaluating this criterion, priority will be given to programs which serve minority populations in order to eliminate health disparities.] (10 points)

(6) The community commitment to, and involvement in, planning and implementation of the project, as demonstrated by letters of commitment and willingness to participate in the project's implementation, acceptance of referrals, etc. (10 points)

(7) The applicant's presentation of the need for the project, including the incidence of adolescent pregnancy in the geographic area to be served and the availability of services for adolescents within this geographic area. (10 points)

Review and Selection Process

Final grant award decisions will be made by the Deputy Assistant Secretary for Population Affairs (DASPA). In making these decisions, the DASPA will take into account the extent to which applications recommended for approval will provide an appropriate geographic distribution of resources, the priorities in sec. 2005(a), and other factors including:

(1) Recommendations and scores submitted by the review panels;

(2) The geographic area to be served, particularly the needs of rural areas;

(3) The reasonableness of the estimated cost of the project based on factors such as the incidence of adolescent pregnancy in the geographic area to be served and the availability of services for adolescents in this geographic area;

(4) The adequacy of the evaluation plan, including incorporation of the six evaluation criteria listed in the “Evaluation” section of this announcement, and the demonstrated ability to participate successfully in a cross-site evaluation; and

(5) The usefulness for policymakers and service providers of the proposed project and its potential for replication.

VI. Award Administration Information

Award Notices

OAPP does not release information about individual applications during the review process until final funding decisions have been made. When these decisions have been made, the applicant's authorized representative will be notified of the outcome of their application by postal mail. The Notice of Grant Award is the official document notifying an applicant that an application has been approved for funding, which specifies to the grantee the amount of money awarded, the purpose of the grant, the terms and conditions of the grant award, and the amount of funding to be contributed by the grantee to project costs.

Administrative and National Policy Requirements

The regulations set out in 45 CFR parts 74 and 92, are the Health and Human Services (HHS) rules and requirements that govern the administration of grants. Part 74 is applicable to all recipients except those covered by part 92, which governs awards to state and local governments. Applicants funded under this announcement must be aware of and comply with these regulations. The CFR volume that includes parts 74 and 92 may be downloaded from http://www.access.gpo.gov/nara/cfr/waisidx_03/45cfrv1_03.html.

The Buy American Act of 1933, as amended (41 U.S.C. 10a-10d), requires that Government agencies give priority to domestic products when making purchasing decisions. Therefore, to the greatest extent practicable, all equipment and products purchased with grant funds should be American-made.

A notice providing information and guidance regarding the “Government-wide Implementation of the President's Welfare-to-Work Initiative for Federal Grant Programs” was published in the Federal Register on May 16, 1997. This initiative was designated to facilitate and encourage grantees and their sub-recipients to hire welfare recipients and to provide additional needed training and/or mentoring as needed. The text of the Notice is available electronically on the OMB homepage at http://www.whitehouse.gov/omb.

The HHS Appropriations Act requires that when issuing statements, press releases, requests for proposals, bid solicitations, and other documents describing projects or programs funded in whole or in part with Federal money, grantees shall clearly state the percentage and dollar amount of the total costs of the program or project which will be financed with Federal money and the percentage and dollar amount of the total costs of the project or program that will be financed by non-governmental sources.

Reporting Requirements

Applicants funded under this grant announcement will be required to electronically submit an End-of-Year Program, Evaluation and Financial report 90 days after the grant budget period ends. The Project Director and Evaluator are expected to attend an annual OAPP sponsored conference, as well as other OAPP sponsored training.

VII. Other Information

Technical Assistance

The OAPP has scheduled a series of technical assistance workshops to help prospective applicants at no cost. At each of the one-day workshops, the public will be able to learn more about the purposes and requirements of the Title XX program, how to apply for funds under this program announcement, program eligibility requirements, the application selection process, and considerations that might help to improve the quality of grant applications. The OAPP encourages applicants to send a financial representative from their agency to the workshop. All participants must preregister using the form at http://opa.osophs.dhhs.gov or you may obtain a registration form from the OAPP at (301) 594-4004. Written requests for registration forms may be faxed to (301) 594-5981. The address of workshop locations and logistical information will be faxed or e-mailed back to you upon receipt of your registration. The sessions are tentatively scheduled for the week of April 26-April 30, 2004 in the following locations:

Atlanta, GA; Boston, MA; Chicago, IL; Dallas, TX; Dulles, VA; San Francisco, CA.

Please check the OPA Web site for updates.

In addition to the technical assistance workshops, a free interactive computer based technical assistance program is available to instruct applicants in the Title XX grant writing process. The Computer Based Technical Assistance Program can be downloaded at the OPA website at http://opa.osophs.dhhs.gov. If you do not have access to the Internet, a CD-Rom is included in the hard copy of the application kit which can be obtained from the OPHS Grants Management Office, 1101 Wootton Parkway, Suite 550, Rockville, MD 20852; (301) 594-0758.

Dated: March 17, 2004.
Alma L. Golden,
Deputy Assistant Secretary for Population Affairs.

[FR Doc. 04-7627 Filed 4-2-04; 8:45 am]

BILLING CODE 4150-30-P